DEPARTMENT OF DEFENSE

Office of the Secretary

[Docket ID DOD-2018-OS-0048]

Submission for OMB Review; Comment Request

AGENCY: Office of the Under Secretary of Defense for Personnel and Readiness, DoD.

ACTION: 30-Day information collection notice.

SUMMARY: The Department of Defense has submitted to OMB for clearance the following proposal for collection of information under the provisions of the Paperwork Reduction Act.

DATES: Consideration will be given to all comments received by December 24, 2018.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Fred Licari, 571-372-0493, or whs.mc-alex.esd.mbx.dd-dod-information-collections@mail.mil.

SUPPLEMENTARY INFORMATION:

Title; Associated Form; and OMB Number: DoD Enterprise-Wide Contractor Manpower Reporting Application (ECMRA); OMB Control Number 0704-0491.

Type of Request: Revision.

Number of Respondents: 5,582.

Responses per Respondent: 4.

Annual Responses: 22,328.

Average Burden per Response: 5 minutes.

Annual Burden Hours: 1,860.667.

Needs and Uses: The information collection requirement is necessary to achieve the collection of direct labor hours and associated costs in order to meet the requirements set for the DoD by section 2330a of Title 10, United States Code. Furthermore, ECMRA collections enable DoD organizations to understand the extent of contracted support, the associated level of effort in achieving mission, the reliance on contracted services necessary to facilitate their workforce planning process, and to support statutory requirements set forth in sections 115a, 129a, 235, 2461, and 2463 of Title 10, United States Code.

Affected Public: Businesses or other for-profit.

Frequency: Annually.

Respondent's Obligation: Mandatory.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Mr. Frederick Licari.

Requests for copies of the information collection proposal should be sent to Mr. Licari at whs.mc-alex.esd.mbx.dd-dod-information-collections@mail.mil.

Dated: November 16, 2018.
Aaron T. Siegel,
Alternate OSD Federal Register Liaison Officer, Department of Defense.

[FR Doc. 2018-25457 Filed 11-21-18; 8:45 am]

BILLING CODE 5001-06-P